DEPARTMENT OF DEFENSE

Department of the Army

Draft Environmental Impact Statement for the Proposed Leasing of Lands at Fort Bliss, Texas for the Proposed Siting, Construction, and Operation by the City of El Paso of a Brackish Water Desalination Plant and Support Facilities

AGENCY: Department of the Army, DoD.

ACTION: Notice of availability.

SUMMARY: The Department of the Army announces the availability of the Draft Environmental Impact Statement (DEIS) evaluating the potential environmental impacts that could result from granting an easement to the City of El Paso, El Paso Water Utilities (EPWU), to use land in the South Training Areas of Fort Bliss for construction and operation of a desalination plant and support facilities, including wells, pipelines, and disposal sites for the residual brine resulting from the desalination process. The purpose of the proposed plant is to treat brackish (salty) water pumped from the Hueco Bolson Aquifer to provide an additional reliable source of potable water for use by the City of El Paso and Fort Bliss. Pumping of fresh water by EPWU, Fort Bliss, Ciudad Juárez, and others has resulted in declining groundwater levels in the aquifer. In addition, brackish water is intruding into the aquifer's freshwater layer and has the potential to affect water wells on Fort Bliss and in other areas of El Paso.

A sizable volume of brackish water exists adjacent to the freshwater zone of the Hueco Bolson Aquifer. Desalination of the brackish water offers a way to extend the life of the freshwater aquifer as a source of potable water that is to the mutual benefit of Fort Bliss and the City of El Paso. The proposed desalination plant would reduce withdrawals of fresh water from the aquifer, extending its useful life and intercepting the flow of brackish water to wells that are operated by Fort Bliss. Both Fort Bliss and the City of El Paso have considered constructing desalination facilities to tap into this potential water source. The Army and EPWU believe that building a single desalination plant to provide potable water for both the installation and the city would be more efficient and cost effective than constructing separate desalination plants.

DATES: The public comment period for the DEIS will end September 27, 2004. A public hearing will be held in El Paso, TX, for the purpose of receiving comments on this DEIS. Additional details about the hearing will follow in the media, or can be obtained by contacting the Fort Bliss Public Affairs Office at (915) 568-4505. Public comments received on the DEIS will be addressed in the Final Environmental Impact Statement (FEIS) and considered by the Army in its Record of Decision.

ADDRESSES: To obtain copies of the DEIS, contact John F. Barrera (915) 568-3908 or write to: Fort Bliss Directorate of the Environment, ATTN: AZC-DOE-C, Building 624, Pleasanton Road, Fort Bliss, TX 79916-6812. Written comments on the DEIS should be submitted to the same address or can be e-mailed to desaleis@bliss.army.mil.

FOR FURTHER INFORMATION: Contact John F. Barrera, (915) 568-3908.

SUPPLEMENTARY INFORMATION: The proposed desalination plant would treat brackish water drawn from the Hueco Bolson Aquifer using a technology called reverse osmosis (RO). RO uses semipermeable membranes to remove dissolved solids (primarily salts) from brackish water, producing fresh water. Water for the desalination process would be drawn from existing EPWU wells on the east side of El Paso International Airport and from proposed new wells to be installed on Fort Bliss land north of Biggs Army Airfield. The plant is being designed to produce approximately 27.5 million gallons per day (MGD) of drinking water and 3.0 MGD of a brine called concentrate. To implement the proposed desalination project, EPWU is applying for an easement for land in the South Training Areas of Fort Bliss for a desalination plant site, 16 new water wells, concentrate disposal sites, and various connecting pipelines.

The DEIS considers seven alternatives, six action alternatives and the No Action Alternative. The six action alternatives include various combinations of three potential sites for the proposed desalination plant and two methods of disposal of the concentrate. The three alternative desalination plant sites are located in Training Area 1B of the South Training Areas of Fort Bliss, adjacent to El Paso International Airport, north of Montana Avenue, and west of Loop 375. The two concentrate disposal methods under consideration include (1) injecting the concentrate underground into a confined zone where it would be isolated from potable water sources, or (2) piping the concentrate to evaporation ponds, where the liquid would evaporate leaving a solid salt residue that would be trucked to a landfill for final disposal.

Under the No Action Alternative, the Army would not provide land on Fort Bliss for construction and operation of the proposed desalination plant. None of the proposed facilities would be constructed on Army land at Fort Bliss. This alternative could, however, include one or more of the following actions without Army action or participation: construction and operation of a desalination plant on non-Army land, increase in water conservation measures, development of other water sources in the El Paso region, and/or importation of water from sources outside El Paso. Without the proposed desalination project, EPWU would continue to pump from the freshwater layer of the Hueco Bolson Aquifer until it no longer met drinking water standards.

The Army has not yet selected a preferred alternative, which will be identified in the FEIS.

The DEIS analyzes the environmental consequences each alternative could have on geology and soils; water resources; utilities and services; hazardous materials, hazardous waste, and safety; air quality; biological resources; land use and aesthetics; transportation; cultural resources; and socioeconomics and environmental justice.

Copies of the DEIS are available for review at the following libraries in El Paso, TX: El Paso Public Library, 501 N. Oregon Street; Richard Burges Branch Library, 9600 Dyer; Irving Schwartz Branch Library, 1865 Dean Martin; and Westside Branch Library, 125 Belvidere. The document can also be reviewed at http://www.bliss.army.mil.

Hugh M. Exton, Jr.,
Director, SWRO, Installation Management Agency.

[FR Doc. 04-18518 Filed 8-12-04; 8:45 am]

BILLING CODE 3710-08-M